DEPARTMENT OF ENERGY

10 CFR Part 430

[Docket No. EERE-2013-BT-STD-0051]

RIN 1904-AD09

Energy Conservation Standards for General Service Lamps: Public Meeting

AGENCY: Office of Energy Efficiency and Renewable Energy, Department of Energy.

ACTION: Notice of public meeting and webinar.

SUMMARY: The U.S. Department of Energy (DOE) will hold a public meeting to discuss and receive comments on a proposed definition for general service lamps (GSLs) to be published in a forthcoming notice of proposed definition and data availability (NOPDDA). The meeting will cover the proposed scope of the GSL definition; DOE's approach to analyzing the 22 lamps exempted from the statutory definition of general service incandescent lamp, including available sales data; challenges manufacturers may have in meeting the statutory backstop requirement of 45 lumens per watt (lm/W) associated with the lamps meeting the GSL definition that will apply beginning in January, 2020; and options available to DOE and/or manufacturers to help manufacturers transition to the backstop requirement; and any other issues relevant to the scope of the GSL definition.

DATES: DOE will hold a public meeting on October 21, 2016, from 9:30 a.m. to 4:00 p.m., in Washington, DC.

ADDRESSES: The public meeting will be held at the U.S. Department of Energy, Forrestal Building, Room 1E-245, 1000 Independence Avenue SW., Washington, DC 20585-0121. In addition, you can attend the public meeting via webinar. Webinar registration information, participant instructions, and information about the capabilities available to webinar participants will be published on DOE's Web site at: https://www1.eere.energy.gov/buildings/appliance_standards/standards.aspx?productid=4. Participants are responsible for ensuring their systems are compatible with the webinar software. Please also note that any person wishing to bring a laptop into the Forrestal Building will be required to obtain a property pass. Visitors should avoid bringing laptops, or allow an extra 45 minutes.

FOR FURTHER INFORMATION CONTACT: Ms. Lucy deButts, U.S. Department of Energy, Office of Energy Efficiency and Renewable Energy, Building Technologies Office, EE-2J, 1000 Independence Avenue SW., Washington, DC 20585-0121. Telephone: (202) 287-1604. Email: gsl@ee.doe.gov.

Ms. Celia Sher, U.S. Department of Energy, Office of the General Counsel, GC-33, 1000 Independence Avenue SW., Washington, DC 20585-0121. Telephone: (202) 287-6122. Email: celia.sher@hq.doe.gov.

SUPPLEMENTARY INFORMATION: Title III, Part B of the Energy Policy and Conservation Act of 1975 (EPCA or the Act), Public Law 94-163 (42 U.S.C. 6291-6309, as codified) established the Energy Conservation Program for Consumer Products Other Than Automobiles, a program covering most major household appliances (collectively referred to as “covered products”).¹ Subsequent amendments expanded Title III of EPCA to include additional consumer products, including GSLs—the products that are the focus of this notice of public meeting (NOPM).

¹ Part B was re-designated Part A on codification in the U.S. Code for editorial reasons.

In particular, amendments to EPCA in the Energy Independence and Security Act of 2007 (EISA 2007) directed DOE to conduct two rulemaking cycles to evaluate energy conservation standards for GSLs. (42 U.S.C. 6295(i)(6)(A)-(B)) For the first rulemaking cycle, EPCA, as amended by EISA 2007, directs DOE to initiate a rulemaking no later than January 1, 2014, to evaluate standards for GSLs and determine whether exemptions for certain incandescent lamps should be maintained or discontinued. (42 U.S.C. 6295(i)(6)(A)(i)) The scope of the rulemaking is not limited to incandescent lamp technologies. (42 U.S.C. 6295(i)(6)(A)(ii)) Further, for this first cycle of rulemaking, the EISA 2007 amendments provide that DOE must consider a minimum standard of 45 lm/W. (42 U.S.C. 6295(i)(6)(A)(ii)) If DOE fails to meet the requirements of 42 U.S.C. 6295(i)(6)(A)(i)-(iv) or the final rule from the first rulemaking cycle does not produce savings greater than or equal to the savings from a minimum efficacy standard of 45 lm/W, sales of GSLs that do not meet the minimum 45 lm/W standard beginning on January 1, 2020, will be prohibited. (42 U.S.C. 6295(i)(6)(A)(v))

On March 17, 2016, DOE published a notice of proposed rulemaking (NOPR) for energy conservation standards for GSLs. 81 FR 14527. DOE held the related NOPR public meeting on April 20, 2016. During the public meeting and in written comments, interested parties provided additional data and raised concerns regarding the scope of the proposed GSL definition, DOE's approach to analyzing the 22 incandescent lamps exempted from EPCA's definition of general service incandescent lamps, and the 45 lm/W backstop requirement. In response to these comments, DOE conducted additional research and will publish a notice of proposed definition and data availability (NOPDDA) proposing a definition of GSL; presenting additional data collected by DOE; outlining options available to DOE and/or manufacturers to help manufacturers transition to the 2020 backstop requirement; and requesting public comment on the proposed definition of GSL and the compiled data.

After publication of the NOPDDA, DOE will hold a public meeting to discuss: (1) The proposed scope of the GSL definition; (2) DOE's approach to analyzing the 22 exemptions, including available sales data; (3) challenges manufacturers face with the 45 lm/W backstop requirement and options available to DOE and/or manufacturers to help manufacturers transition to the backstop requirement; and (4) any other issues relevant to the scope of the GSL definition.

Public Participation

Members of the public are welcome to observe the business of the meeting and, if time allows, may make oral statements during the specified period for public comment. To attend the meeting and/or to make oral statements, please notify the Appliance and Equipment Standards Staff at (202) 586-6636 or Appliance_Standards_Public_Meetings@ee.doe.gov. In the email, please indicate your name, organization (if appropriate), citizenship, and contact information. Please note that foreign nationals visiting DOE Headquarters are subject to advance security screening procedures which require advance notice prior to attendance at the public meeting. If a foreign national wishes to participate in the public meeting, please inform DOE of this fact as soon as possible by contacting Ms. Regina Washington at (202) 586-1214 or by email (Regina.Washington@ee.doe.gov) so that the necessary procedures can be completed.

Anyone attending the meeting will be required to present a government photo identification, such as a passport, driver's license, or government identification. Due to the required security screening upon entry, individuals attending should arrive early to allow for the extra time needed.

Due to the REAL ID Act implemented by the Department of Homeland Security (DHS), there have been recent changes regarding identification (ID) requirements for individuals wishing to enter federal buildings from specific states and U.S. territories. As a result, driver's licenses from several states or territory will not be accepted for building entry, and instead, one of the alternate forms of ID listed below will be required. DHS has determined that regular driver's licenses (and ID cards) from the following jurisdictions are not acceptable for entry into DOE facilities: Alaska, American Samoa, Arizona, Louisiana, Maine, Massachusetts, Minnesota, New York, Oklahoma, and Washington. Acceptable alternate forms of Photo-ID include: U.S. Passport or Passport Card; an Enhanced Driver's License or Enhanced ID-Card issued by the States of Minnesota, New York, or Washington (Enhanced licenses issued by these states are clearly marked Enhanced or Enhanced Driver's License); a military ID or other federal-government-issued photo ID-card.

Docket: The docket is available for review at www.regulations.gov, including Federal Register notices, public meeting attendee lists and transcripts, comments, and other supporting documents/materials. All documents in the docket are listed in the www.regulations.gov index. However, not all documents listed in the index may be publicly available, such as information that is exempt from public disclosure.

Approval of the Office of the Secretary

The Secretary of Energy has approved publication of this NOPM.

Issued in Washington, DC, on September 27, 2016.
Kathleen B. Hogan,
Deputy Assistant Secretary for Energy Efficiency, Energy Efficiency and Renewable Energy.

[FR Doc. 2016-24063 Filed 10-4-16; 8:45 am]

BILLING CODE 6450-01-P